DEPARTMENT OF ENERGY

Federal Energy Regulatory Commission

Combined Notice of Filings #1

Take notice that the Commission received the following electric corporate filings:

Docket Numbers: EC15-13-000.

Applicants: Limon Wind III, LLC.

Description: Application of Limon Wind III, LLC for Authorization Under Section 203 of the Federal Power Act and Request for Expedited Action.

Filed Date: 10/20/14.

Accession Number: 20141020-5189.

Comments Due: 5 p.m. ET 11/10/14.

Docket Numbers: EC15-14-000.

Applicants: American Transmission Company LLC.

Description: Application for Authority to Acquire Transmission Facilities Under Section 203 of the FPA of American Transmission Company LLC.

Filed Date: 10/20/14.

Accession Number: 20141020-5203.

Comments Due: 5 p.m. ET 11/10/14.

Docket Numbers: EC15-15-000.

Applicants: Hoopeston Wind, LLC.

Description: Hoopeston Wind Application for Approval Under Section 203 of the Federal Power Act and Request for Expedited Treatment and Shortened Comment Period.

Filed Date: 10/21/14.

Accession Number: 20141021-5056.

Comments Due: 5 p.m. ET 11/12/14.

Take notice that the Commission received the following electric rate filings:

Docket Numbers: ER14-2497-001.

Applicants: Idaho Power Company.

Description: Compliance filing per 35: Amendment to OATT Order No. 792 Compliance Filing—SGIP/SGIA to be effective 12/31/9998.

Filed Date: 10/21/14.

Accession Number: 20141021-5131.

Comments Due: 5 p.m. ET 11/12/14.

Docket Numbers: ER14-2573-001.

Applicants: New York Independent System Operator, Inc.

Description: Compliance filing per 35: NYISO compliance in response to deficiency letter w/SGIA/SGIP tariff revisions to be effective 12/31/9998.

Filed Date: 10/21/14.

Accession Number: 20141021-5146.

Comments Due: 5 p.m. ET 11/12/14.

Docket Numbers: ER14-2583-001.

Applicants: ISO New England Inc., New England Power Pool Participants Committee.

Description: Compliance filing per 35: Response to FERC's Letter Regarding the Deficiency of a Filing to be effective 12/31/9998.

Filed Date: 10/21/14.

Accession Number: 20141021-5152.

Comments Due: 5 p.m. ET 11/12/14.

Docket Numbers: ER15-46-000.

Applicants: Dragon Energy, LLC.

Description: Supplement to October 6, 2014 Dragon Energy, LLC tariff filing.

Filed Date: 10/14/14.

Accession Number: 20141014-5498.

Comments Due: 5 p.m. ET 11/4/14.

Docket Numbers: ER15-135-000.

Applicants: PJM Interconnection, L.L.C.

Description: § 205(d) rate filing per 35.13(a)(2)(iii): Revisions to the OATT re DR Operational Resource RPM Transition Mechanism to be effective 12/19/2014.

Filed Date: 10/20/14.

Accession Number: 20141020-5160.

Comments Due: 5 p.m. ET 11/10/14.

Docket Numbers: ER15-136-000.

Applicants: PJM Interconnection, L.L.C.

Description: § 205(d) rate filing per 35.13(a)(2)(iii): Original Service Agreement No. 4012; Queue W1-003-006;Z1-100-102 to be effective 9/18/2014.

Filed Date: 10/20/14.

Accession Number: 20141020-5165.

Comments Due: 5 p.m. ET 11/10/14.

Docket Numbers: ER15-137-000.

Applicants: Northern States Power Company, a Wisconsin corporation.

Description: § 205(d) rate filing per 35.13(a)(2)(iii): 2014-10-21 CDTT-TREMPLO-BNGR-BLMR-ACIF NOCs to be effective 10/31/2014.

Filed Date: 10/21/14.

Accession Number: 20141021-5082.

Comments Due: 5 p.m. ET 11/12/14.

Docket Numbers: ER15-138-000.

Applicants: Michigan Electric Transmission Company, LLC.

Description: § 205(d) rate filing per 35.13(a)(2)(iii): CIAC Agreement with Wolverine Power Supply Cooperative to be effective 12/22/2014.

Filed Date: 10/21/14.

Accession Number: 20141021-5091.

Comments Due: 5 p.m. ET 11/12/14.

Docket Numbers: ER15-139-000.

Applicants: Palo Duro Wind Interconnection Services, LLC.

Description: Baseline eTariff Filing per 35.1: Palo Duro Wind Interconnection Services, LLC Amended and Restated SFA to be effective 10/22/2014 under ER15-139 Filing Type: 390.

Filed Date: 10/21/14.

Accession Number: 20141021-5111.

Comments Due: 5 p.m. ET 11/12/14.

Docket Numbers: ER15-140-000.

Applicants: Dry Lake Wind Power II LLC.

Description: Tariff Withdrawal per 35.15: Cancellation to be effective 12/20/2014.

Filed Date: 10/21/14.

Accession Number: 20141021-5119.

Comments Due: 5 p.m. ET 11/12/14.

Docket Numbers: ER15-141-000.

Applicants: California Independent System Operator C, AES Huntington Beach, L.L.C.

Description: § 205(d) rate filing per 35.13(a)(2)(iii): Request for Approval of Extension of Contract Term to be effective 1/1/2015.

Filed Date: 10/21/14.

Accession Number: 20141021-5149.

Comments Due: 5 p.m. ET 11/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2014.
Nathaniel J. Davis, Sr.,
Deputy Secretary.

[FR Doc. 2014-25705 Filed 10-28-14; 8:45 am]

BILLING CODE 6717-01-P